FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 20, 2014.

A. Federal Reserve Bank of Atlanta (Chapelle Davis, Assistant Vice President) 1000 Peachtree Street NE., Atlanta, Georgia 30309:

1. Johnny David Young, Linda Kay Young, Chris Young Pierson, and Nathan Pierson, all of Fort Payne, Alabama, collectively to acquire voting shares of FBDC Financial Corp. and thereby indirectly acquire voting shares of First Federal Bank, both in Fort Payne, Alabama.

B. Federal Reserve Bank of Dallas (E. Ann Worthy, Vice President) 2200 North Pearl Street, Dallas, Texas 75201-2272:

1. Edward E. Hartline, Houston, Texas, as trustee of the Carolyn J. Young 2012 Trust; to retain voting shares of Central Bancshares, Inc., and thereby indirectly retain voting shares of Central Bank, both in Houston, Texas.

2. Carolyn Josey Young, individually, and John H. Young, Carolyn J. Young, John R. Young, Kathleen Zinn, and Donna P. Josey, all of Houston, Texas, and Elizabeth Young, Atlanta, Georgia, collectively to retain voting shares of Central Bancshares, Inc., and thereby indirectly retain voting shares of Central Bank, both in Houston, Texas.

Board of Governors of the Federal Reserve System, April 30, 2014.
Michael J. Lewandowski,
Associate Secretary of the Board.

[FR Doc. 2014-10200 Filed 5-2-14; 8:45 am]

BILLING CODE 6210-01-P